DEPARTMENT OF LABOR

Employment and Training Administration

[TA-W-54,629]

Motorola, Inc., Information Technology, Semiconductor Products Sector, Tempe, AZ; Notice of Affirmative Determination Regarding Application for Reconsideration

By letter of June 23, 2004, a petitioner requested administrative reconsideration of the Department of Labor's Notice of Negative Determination Regarding Eligibility to Apply for Worker Adjustment Assistance, applicable to workers of the subject firm. The Department's negative determination was signed on June 15, 2004. The Notice of determination was published in the Federal Register on July 7, 2004 (69 FR 40983).

The Department has reviewed the request for reconsideration and will conduct further investigation to determine whether the subject worker group meet the eligibility requirements of the Trade Act of 1974.

Conclusion

After careful review of the application, I conclude that the claim is of sufficient weight to justify reconsideration of the Department of Labor's prior decision. The application is, therefore, granted.

Signed at Washington, DC, this 22nd day of July, 2004.
Elliott S. Kushner,
Certifying Officer, Division of Trade Adjustment Assistance.

[FR Doc. 04-17723 Filed 8-3-04; 8:45 am]

BILLING CODE 4510-30-P